DEPARTMENT OF HEALTH AND HUMAN SERVICES

Food and Drug Administration

[Docket No. FDA-2015-N-0001]

Anesthetic and Analgesic Drug Products Advisory Committee; Notice of Meeting; Correction

AGENCY: Food and Drug Administration, HHS.

ACTION: Notice; correction.

SUMMARY: The Food and Drug Administration is correcting a notice entitled “Anesthetic and Analgesic Drug Products Advisory Committee; Notice of Meeting” that appeared in the Federal Register of February 6, 2015 (80 FR 6731). The document announced a forthcoming meeting of a public advisory committee of the Food and Drug Administration (FDA). The document was published with the incorrect docket number. This document corrects that error.

FOR FURTHER INFORMATION CONTACT: Lisa Granger, Office of Policy, Planning, Legislation, and Analysis, Food and Drug Administration, 10903 New Hampshire Ave., Bldg. 32, Rm. 3330, Silver Spring, MD 20993, 301-796-9115.

SUPPLEMENTARY INFORMATION: In the Federal Register of February 6, 2015, in FR Doc. 2015-02408, on page 6731, the following correction is made:

On page 6731, in the first column, in the Docket No. heading, “[Docket No. FDA-2011-N-0824]” is corrected to read “[Docket No. FDA-2015-N-0001]”.

Dated: February 17, 2015.
Leslie Kux,
Associate Commissioner for Policy.

[FR Doc. 2015-03688 Filed 2-23-15; 8:45 am]

BILLING CODE 4164-01-P